ENVIRONMENTAL PROTECTION AGENCY

40 CFR Part 52

[EPA-R09-OAR-2014-0861; FRL-9925-81-Region 9]

Approval and Promulgation of Air Quality Implementation Plans; Arizona; Regional Haze Federal Implementation Plan; Reconsideration

AGENCY: Environmental Protection Agency (EPA).

ACTION: Final rule.

SUMMARY: The Environmental Protection Agency (EPA) is taking final action to revise certain provisions in the Arizona Regional Haze (RH) Federal Implementation Plan (FIP) that apply to the Nelson Lime Plant. In response to a request for reconsideration from the plant's owner, Lhoist North America of Arizona, Inc. (LNA), we are replacing the control technology demonstration requirements for emissions of nitrogen oxides (NOX) applicable to Kilns 1 and 2 at the Nelson Lime Plant with revised recordkeeping and reporting requirements. We are not revising any of the emission limits that apply to these units, including the existing NOX emission limits, which can be met with selective non-catalytic reduction (SNCR) control technology. We also are taking final action to correct a misprint of the regulatory requirements in a table in the Arizona RH FIP that identifies the emission limits for NOX and sulfur dioxide (SO2) at each kiln.

DATES: Effective date: This rule is effective May 18, 2015.

ADDRESSES: EPA has established docket number EPA-R09-OAR-2014-0861 for this action. Generally, documents in the docket are available electronically at http://www.regulations.gov or in hard copy at EPA Region 9, 75 Hawthorne Street, San Francisco, California. Please note that while many of the documents in the docket are listed at http://www.regulations.gov, some information may not be specifically listed in the index to the docket and may be publicly available only at the hard copy location (e.g., copyrighted material, large maps, multi-volume reports, or otherwise voluminous materials), and some may not be available at either locations (e.g., confidential business information). To inspect the hard copy materials, please schedule an appointment during normal business hours with the contact listed directly below.

FOR FURTHER INFORMATION CONTACT: Thomas Webb, U.S. EPA, Region 9, Planning Office, Air Division, Air-2, 75 Hawthorne Street, San Francisco, CA 94105. Thomas Webb can be reached at telephone number (415) 947-4139 and via electronic mail at webb.thomas@epa.gov.

SUPPLEMENTARY INFORMATION:

Definitions

For the purpose of this document, “we,” “us,” and “our” refer to EPA. We also are giving meaning to certain words or initials as follows:

• The words or initials Act or CAA mean or refer to the Clean Air Act, unless the context indicates otherwise.

• The initials ADEM mean or refer to the Alabama Department of Environmental Management.

• The initials ADEQ mean or refer to the Arizona Department of Environmental Quality.

• The words Arizona and State mean the State of Arizona.

• The initials BACT mean or refer to Best Available Control Technology.

• The initials BART mean or refer to Best Available Retrofit Technology.

• The initials CAA mean or refer to the Clean Air Act.

• The term Class I area refers to a mandatory Class I Federal area.¹

¹ Although states and tribes may designate as Class I additional areas that they consider to have visibility as an important value, the requirements of the visibility program set forth in section 169A of the CAA apply only to “mandatory Class I Federal areas.”

• The initials CBI mean or refer to Confidential Business Information.

• The initials CEMS mean or refer to continuous emission monitoring system or systems.

• The words EPA, we, us or our mean or refer to the United States Environmental Protection Agency.

• The initials FIP mean or refer to Federal Implementation Plan.

• The initials LNA mean or refer to Lhoist North America of Arizona, Inc.

• The initials MMBtu mean or refer to million British thermal units.

• The initials NOX mean or refer to nitrogen oxides.

• The initials RH mean or refer to regional haze.

• The initials RHR mean or refer to EPA's Regional Haze Rule.

• The initials SIP mean or refer to State Implementation Plan.

• The initials SNCR mean or refer to selective non-catalytic reduction.

• The initials SO2 mean or refer to sulfur dioxide.

Table of Contents

I. Summary of Proposed Action

II. Background on Petition for Reconsideration and Stay

III. Public Comments

IV. Final Action

V. Statutory and Executive Order Reviews

I. Summary of Proposed Action

EPA proposed on January 13, 2015, to revise certain Best Available Retrofit Technology (BART) requirements in the FIP related to reducing NOX emissions from Kilns 1 and 2 at the Nelson Lime Plant.² As described in the proposal, the revision consists of several components, including the removal of the control technology demonstration requirements, the addition of revised recordkeeping and reporting requirements, and the correction of an error in a table.³ We proposed to find that these changes are reasonable and appropriate based on information from LNA regarding the effectiveness of using SNCR to control NOX emissions at another lime plant. The proposed rule addressing the Nelson Lime Plant did not change the emission limits, compliance deadlines, or the compliance determination methods established in the final rule for the Arizona RH FIP.

² 80 FR 1608. The notice of proposed rulemaking contains background information concerning the visibility requirements of the CAA, the RHR, and the Arizona RH FIP.

³ Id.

II. Background on Petition for Reconsideration and Stay

LNA submitted a petition to EPA on October 31, 2014, seeking administrative reconsideration and a partial stay of the final rule under CAA section 307(d)(7)(B).⁴ Specifically, LNA requested that EPA eliminate the control technology demonstration requirements (also known as “optimization requirements”) for the Nelson Lime Plant. In support of its petition, LNA provided additional data regarding the performance of SNCR control technology at lime kilns located at another LNA facility, the O'Neal Lime Plant in Calera, Alabama. In the petition, LNA also requested a stay of the provisions in the FIP applicable to the Nelson Lime Plant if EPA did not propose action on its petition prior to December 31, 2014.⁵ EPA sent a letter to LNA on November 20, 2014, granting reconsideration of the optimization requirements pursuant to CAA section 307(d)(7)(B).⁶

⁴ Letter from Eric Hiser, Jorden Bischoff & Hiser, to Regina McCarthy, EPA (October 31, 2014).

⁵ Because the proposal was signed prior to December 31, 2014, we consider LNA's request for a stay to be moot.

⁶ Letter from Jared Blumenfeld, EPA, to Eric Hiser, Jorden Bischoff & Hiser (November 20, 2014).

III. Public Comments

In the proposed rule, EPA provided 45 days for the public to submit comments on the proposed revision to the Arizona RH FIP. During the public comment period, we received one set of comments from the Mississippi Lime Company (“Mississippi Lime”).⁷ The comments from Mississippi Lime focused on the requirement for LNA to install SNCR controls at the Nelson Lime Plant. The comments and our responses are summarized below.

⁷ Letter from Kimberly S. L. Bauman, Mississippi Lime Company, to Thomas Webb, EPA (February 27, 2015).

Comment: Mississippi Lime stated that SNCR technology has not been identified as Best Available Control Technology (BACT) for lime kilns in EPA's control technology clearinghouse or as an applied emission control in publicly available documents for LNA's O'Neal facility. The commenter further noted that there is no discussion of SNCR at the O'Neal facility in publicly available documents such as operating permits, quarterly excess emission reports, or emission inventory reports issued by or submitted to the Alabama Department of Environmental Management.

Response: EPA does not dispute Mississippi Lime's assertion that publicly available information on SNCR technology for lime kilns may be limited. However, any such lack of information is irrelevant to this action. In particular, in a final rule published on September 3, 2014, EPA determined that SNCR is technically feasible and constitutes BART for Kilns 1 and 2 at Nelson Lime Plant.⁸ We have not proposed to reconsider or otherwise revise those determinations.

⁸ See 79 FR 9318, 9337-9339 for proposed BART analysis and determination (February 18, 2014); 79 FR 52420, 52424 for final BART determination (September 3, 2014).

Comment: Mississippi Lime contended that LNA, according to public documents provided to Illinois EPA, has stated that its O'Neal facility in Calera, Alabama, is controlling lime kiln emissions to meet emission limits under a permit that relies on a proprietary SNCR technology that was patented by its predecessor, Chemical Lime Company.

Response: EPA does not dispute that the SNCR technology in use at the O'Neal facility may be proprietary. EPA relied on an analysis of the effectiveness of the SNCR technology to control emissions at the O'Neal facility to confirm that the emission limit we established for the Nelson Lime Plant is reasonable and appropriate. Based on the results of our analysis described in our proposal, we proposed and are now taking final action to replace a series of prescriptive control technology demonstration requirements with new recordkeeping and reporting requirements for LNA. The fact that the SNCR technology in use at the O'Neal facility may be proprietary has no bearing on the purpose or substance of our analysis.

Comment: Mississippi Lime asserted that SNCR technology on lime kilns is an unproven control strategy. Thus, the commenter had significant concerns that this technology and the corresponding FIP will be used inappropriately for the establishment of future BACT or BART determinations.

Response: As noted above, EPA has already determined that SNCR is a feasible control technology for Kilns 1 and 2 at the Nelson Lime Plant and has set emission limits that correspond to the use of SNCR in our final rule on the Arizona RH FIP.⁹ Because our proposal and this final action address only the optimization requirements, and are not related to previous determinations in the FIP, this comment on our proposal is not relevant.

⁹ Id.

Comment: Mississippi Lime is concerned that if LNA's proposed SNCR system for the Nelson Lime Plant uses LNA's proprietary and patented technology, competitors like Mississippi Lime may also be required to use the patented technology in the future. The commenter alleged that LNA could interfere with a competitor's obligation to use SNCR by refusing to license its technology or by requiring exorbitant licensing fees. This would enable LNA to use its patent to gain a competitive advantage over the entire lime industry in the United States.

Response: While not the subject of this final rule, the Arizona RH FIP only requires LNA to meet a specified emission limit. LNA may use whatever technology it wants to achieve the required limit, including proprietary technology. If LNA were to refuse to license its proprietary technology or to charge exorbitant fees at some point in the future, then Mississippi Lime could argue in any future regulatory actions that the technology is not available or is not cost-effective.

IV. Final Action

We are taking final action to revise parts of the Arizona RH FIP that apply to the Nelson Lime Plant. In particular, we are removing the control technology demonstration requirements included in the FIP for Nelson Lime Plant and replacing those with less prescriptive recordkeeping and reporting requirements. For the revised recordkeeping and reporting requirements, LNA must submit a summary of the SNCR design and of the SNCR process improvement activities. In addition, we are correcting a misprint in the Federal Register in a table that lists NOX and SO2 emission limits for the kilns at the Nelson Lime Plant. The table appears with the correct labels in the regulatory text that follows this final rule. This rule constitutes EPA's final action on LNA's petition for reconsideration of the Arizona RH FIP.

EPA also is making a final determination that the revisions in this final rule do not interfere with any applicable requirements of the CAA. CAA section 110(l) requires that any revision to an implementation plan shall not be approved by the Administrator if the revision would interfere with any applicable requirement concerning attainment and reasonable further progress or any other applicable requirement of the CAA. These final revisions do not alter the amount or timing of the emission reductions from the Nelson Lime Plant.

V. Statutory and Executive Order Reviews

A. Executive Order 12866: Regulatory Planning and Review and Executive Order 13563: Improving Regulation and Regulatory Review

This action is not a significant regulatory action and was therefore not submitted to the Office of Management and Budget (OMB) for review. This rule applies to only one facility and is therefore not a rule of general applicability.

B. Paperwork Reduction Act (PRA)

This action does not impose an information collection burden under the provisions of the Paperwork Reduction Act, 44 U.S.C. 3501 et seq. This rule applies to only one facility. Therefore, its recordkeeping and reporting provisions do not constitute a “collection of information” as defined under 44 U.S.C. 3502(3) and 5 CFR 1320.3(c).

C. Regulatory Flexibility Act (RFA)

I certify that this proposed action will not have a significant economic impact on a substantial number of small entities. This action will not impose any requirements on small entities. Pursuant to 13 CFR 121.201, footnote 1, a firm is small if it is in NAICS 327410 (lime manufacturing) and the concern and its affiliates have no more than 500 employees. LNA is affiliated with the LNA Group, which has more than 5,500 employees.¹⁰ Therefore, LNA is not a small business.

D. Unfunded Mandates Reform Act (UMRA)

This action does not contain an unfunded mandate of $100 million or more as described in UMRA, 2 U.S.C. 1531-1538, and does not significantly or uniquely affect small governments.

E. Executive Order 13132: Federalism

This action does not have federalism implications. It will not have substantial direct effects on the states, on the relationship between the national government and the states, or on the distribution of power and responsibilities among the various levels of government.

F. Executive Order 13175: Consultation and Coordination With Indian Tribal Governments

This action does not have tribal implications, as specified in Executive Order 13175. It will not have substantial direct effects on any Indian tribes, on the relationship between the Federal Government and Indian tribes, or on the distribution of power and responsibilities between the Federal Government and Indian tribes. Thus, Executive Order 13175 does not apply to this action.

G. Executive Order 13045: Protection of Children From Environmental Health Risks and Safety Risks

EPA interprets EO 13045 as applying only to those regulatory actions that concern health or safety risks that EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution or Use

This action is not subject to Executive Order 13211, because it is not a significant regulatory action under Executive Order 12866.

I. National Technology Transfer and Advancement Act

This rulemaking does not involve technical standards. EPA is not revising any technical standards or imposing any new technical standards in this action.

J. Executive Order 12898: Federal Actions To Address Environmental Justice in Minority Populations and Low-Income Populations

EPA believes the human health or environmental risk addressed by this action will not have potential disproportionately high and adverse human health or environmental effects on minority, low-income or indigenous populations. These final revisions do not alter the amount or timing of the emission reductions from the Nelson Lime Plant.

K. Congressional Review Act (CRA)

This rule is exempt from the CRA because it is a rule of particular applicability.

L. Petitions for Judicial Review

Under section 307(b)(1) of the Clean Air Act, petitions for judicial review of this action must be filed in the United States Court of Appeals for the appropriate circuit by June 16, 2015. Filing a petition for reconsideration by the Administrator of this final rule does not affect the finality of this rule for the purposes of judicial review nor does it extend the time within which a petition for judicial review may be filed, and shall not postpone the effectiveness of such rule or action. This action may not be challenged later in proceedings to enforce its requirements. See CAA section 307(b)(2). In addition, pursuant to CAA section 307(d)(1)(B), this action is subject to the requirements of CAA section 307(d).

List of Subjects in 40 CFR Part 52

Environmental protection, Air pollution control, Incorporation by reference, Nitrogen oxides, Particulate matter, Reporting and recordkeeping requirements, Sulfur dioxide, Visibility.

Dated: April 10, 2015.
Gina McCarthy,
Administrator.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart D—Arizona

2. Amend § 52.145 by:

a. Revising paragraph (i); and

b. Removing Appendix B to § 52.145—Lime Kiln Control Technology Demonstration Requirements.

The revision reads as follows:

§ 52.145 Visibility protection.

* * * * *

(i) Source-specific federal implementation plan for regional haze at Nelson Lime Plant— (1) Applicability. This paragraph (i) applies to the owner/operator of the lime kilns designated as Kiln 1 and Kiln 2 at the Nelson Lime Plant located in Yavapai County, Arizona.

(2) Definitions. Terms not defined in this paragraph (i)(2) shall have the meaning given them in the Clean Air Act or EPA's regulations implementing the Clean Air Act. For purposes of this paragraph (i):

Ammonia injection shall include any of the following: Anhydrous ammonia, aqueous ammonia, or urea injection.

Continuous emission monitoring system or CEMS means the equipment required by this section to sample, analyze, measure, and provide, by means of readings recorded at least once every 15 minutes (using an automated data acquisition and handling system (DAHS)), a permanent record of NOX emissions, SO2 emissions, diluent, and stack gas volumetric flow rate.

Kiln means either of the kilns identified in paragraph (i)(1) of this section.

Kiln 1 means lime kiln 1, as identified in paragraph (i)(1) of this section.

Kiln 2 means lime kiln 2, as identified in paragraph (i)(1) of this section.

Kiln operating day means a 24-hour period between 12 midnight and the following midnight during which there is operation of Kiln 1, Kiln 2, or both kilns at any time.

Kiln operation means any period when any raw materials are fed into the Kiln or any period when any combustion is occurring or fuel is being fired in the Kiln.

Lime product means the product of the lime-kiln calcination process, including calcitic lime, dolomitic lime, and dead-burned dolomite.

NOX means oxides of nitrogen.

Owner/operator means any person who owns or who operates, controls, or supervises a kiln identified in paragraph (i)(1) of this section.

SO2 means sulfur dioxide.

(3) Emission limitations. (i) The owner/operator of the kilns identified in paragraph (i)(1) of this section shall not emit or cause to be emitted pollutants in excess of the following limitations in pounds of pollutant per ton of lime product (lb/ton), from any kiln. Each emission limit shall be based on a 12-month rolling basis.

Pollutant Emission Limit
Kiln ID | NOX | SO2
Kiln 1 | 3.80 | 9.32
Kiln 2 | 2.61 | 9.73

(ii) The owner/operator of the kilns identified in paragraph (i)(1) of this section shall not emit or cause to be emitted pollutants in excess of 3.27 tons of NOX per day and 10.10 tons of SO2 per day, combined from both kilns, based on a rolling 30-kiln-operating-day basis.

(4) Compliance dates. (i) The owner/operator of each kiln shall comply with the NOX emission limitations and other NOX -related requirements of this paragraph (i) no later than September 4, 2017.

(ii) The owner/operator of each kiln shall comply with the SO2 emission limitations and other SO2 -related requirements of this paragraph (i) no later than March 3, 2016.

(5) [Reserved]

(6) Compliance determination—(i) Continuous emission monitoring system. At all times after the compliance dates specified in paragraph (i)(4) of this section, the owner/operator of kilns 1 and 2 shall maintain, calibrate, and operate a CEMS, in full compliance with the requirements found at 40 CFR 60.13 and 40 CFR part 60, appendices B and F, to accurately measure diluent, stack gas volumetric flow rate, and concentration by volume of NOX and SO2 emissions into the atmosphere from kilns 1 and 2. The CEMS shall be used by the owner/operator to determine compliance with the emission limitations in paragraph (i)(3) of this section, in combination with data on actual lime production. The owner/operator must operate the monitoring system and collect data at all required intervals at all times that an affected kiln is operating, except for periods of monitoring system malfunctions, repairs associated with monitoring system malfunctions, and required monitoring system quality assurance or quality control activities (including, as applicable, calibration checks and required zero and span adjustments).

(ii) Ammonia consumption monitoring. Upon and after the completion of installation of ammonia injection on a kiln, the owner or operator shall install, and thereafter maintain and operate, instrumentation to continuously monitor and record levels of ammonia consumption for that kiln.

(iii) Compliance determination for lb per ton NOX limit. Compliance with the NOX emission limits described in paragraph (i)(3)(i) of this section shall be determined based on a rolling 12-month basis. The 12-month rolling NOX emission rate for each kiln shall be calculated within 30 days following the end of each calendar month in accordance with the following procedure: Step one, sum the hourly pounds of NOX emitted for the month just completed and the eleven (11) months preceding the month just completed to calculate the total pounds of NOX emitted over the most recent twelve (12) month period for that kiln; Step two, sum the total lime product, in tons, produced during the month just completed and the eleven (11) months preceding the month just completed to calculate the total lime product produced over the most recent twelve (12) month period for that kiln; Step three, divide the total amount of NOX calculated from Step one by the total lime product calculated from Step two to calculate the 12-month rolling NOX emission rate for that kiln. Each 12-month rolling NOX emission rate shall include all emissions and all lime product that occur during all periods within the 12-month period, including emissions from startup, shutdown, and malfunction.

(iv) Compliance determination for lb per ton SO2 limit. Compliance with the SO2 emission limits described in paragraph (i)(3)(i) of this section shall be determined based on a rolling 12-month basis. The 12-month rolling SO2 emission rate for each kiln shall be calculated within 30 days following the end of each calendar month in accordance with the following procedure: Step one, sum the hourly pounds of SO2 emitted for the month just completed and the eleven (11) months preceding the month just completed to calculate the total pounds of SO2 emitted over the most recent twelve (12) month period for that kiln; Step two, sum the total lime product, in tons, produced during the month just completed and the eleven (11) months preceding the month just completed to calculate the total lime product produced over the most recent twelve (12) month period for that kiln; Step three, divide the total amount of SO2 calculated from Step one by the total lime product calculated from Step two to calculate the 12-month rolling SO2 emission rate for that kiln. Each 12-month rolling SO2 emission rate shall include all emissions and all lime product that occur during all periods within the 12-month period, including emissions from startup, shutdown, and malfunction.

(v) Compliance determination for ton per day NOX limit. Compliance with the NOX emission limit described in paragraph (i)(3)(ii) of this section shall be determined based on a rolling 30-kiln-operating-day basis. The rolling 30-kiln operating day NOX emission rate for the kilns shall be calculated for each kiln operating day in accordance with the following procedure: Step one, sum the hourly pounds of NOX emitted from both kilns for the current kiln operating day and the preceding twenty-nine (29) kiln-operating-day period for both kilns; Step two, divide the total pounds of NOX calculated from Step one by two thousand (2,000) to calculate the total tons of NOX; Step three, divide the total tons of NOX calculated from Step two by thirty (30) to calculate the rolling 30-kiln operating day NOX emission rate for both kilns. Each rolling 30-kiln operating day NOX emission rate shall include all emissions that occur from both kilns during all periods within any kiln operating day, including emissions from startup, shutdown, and malfunction.

(vi) Compliance determination for ton per day SO2 limit. Compliance with the SO2 emission limit described in paragraph (i)(3)(ii) of this section shall be determined based on a rolling 30-kiln-operating-day basis. The rolling 30-kiln operating day SO2 emission rate for the kilns shall be calculated for each kiln operating day in accordance with the following procedure: Step one, sum the hourly pounds of SO2 emitted from both kilns for the current kiln operating day and the preceding twenty-nine (29) kiln operating days, to calculate the total pounds of SO2 emitted over the most recent thirty (30) kiln operating day period for both kilns; Step two, divide the total pounds of SO2 calculated from Step one by two thousand (2,000) to calculate the total tons of SO2; Step three, divide the total tons of SO2 calculated from Step two by thirty (30) to calculate the rolling 30-kiln operating day SO2 emission rate for both kilns. Each rolling 30-kiln operating day SO2 emission rate shall include all emissions that occur from both kilns during all periods within any kiln operating day, including emissions from startup, shutdown, and malfunction.

(7) Recordkeeping. The owner/operator shall maintain the following records for at least five years:

(i) All CEMS data, including the date, place, and time of sampling or measurement; parameters sampled or measured; and results.

(ii) All records of lime production.

(iii) Monthly rolling 12-month emission rates of NOX and SO2, calculated in accordance with paragraphs (i)(6)(iii) and (iv) of this section.

(iv) Daily rolling 30-kiln operating day emission rates of NOX and SO2 calculated in accordance with paragraphs (i)(6)(v) and (vi) of this section.

(v) Records of quality assurance and quality control activities for emissions measuring systems including, but not limited to, any records specified by 40 CFR part 60, appendix F, Procedure 1, as well as the following:

(A) The occurrence and duration of any startup, shutdown, or malfunction, performance testing, evaluations, calibrations, checks, adjustments maintenance, duration of any periods during which a CEMS or COMS is inoperative, and corresponding emission measurements.

(B) Date, place, and time of measurement or monitoring equipment maintenance activity;

(C) Operating conditions at the time of measurement or monitoring equipment maintenance activity;

(D) Date, place, name of company or entity that performed the measurement or monitoring equipment maintenance activity and the methods used; and

(E) Results of the measurement or monitoring equipment maintenance.

(vi) Records of ammonia consumption, as recorded by the instrumentation required in paragraph (i)(6)(ii) of this section.

(vii) Records of all major maintenance activities conducted on emission units, air pollution control equipment, CEMS, and lime production measurement devices.

(viii) All other records specified by 40 CFR part 60, appendix F, Procedure 1.

(8) Reporting. All reports required under this section shall be submitted by the owner/operator to the Director, Enforcement Division, U.S. Environmental Protection Agency, Region 9, electronically via email to aeo_r9@epa.gov. Any data that are required under this section shall be submitted in Excel format. Reports required under paragraphs (i)(8)(iii) through (v) of this section shall be submitted within 30 days after the applicable compliance date(s) in paragraph (i)(4) of this section and at least semiannually thereafter, within 30 days after the end of a semiannual period. The owner/operator may submit reports more frequently than semiannually for the purposes of synchronizing reports required under this section with other reporting requirements, such as the title V monitoring report required by 40 CFR 70.6(a)(3)(iii)(A), but at no point shall the duration of a semiannual period exceed six months.

(i) Prior to commencing construction of the ammonia injection system, the owner/operator shall submit to EPA a summary report of the design of the SNCR system. Elements of this summary report shall include: Reagent type, description of the locations selected for reagent injection, reagent injection rate (expressed as a molar ratio of reagent to NOX), equipment list, equipment arrangement, and a summary of kiln characteristics that were relied upon as the design basis for the SNCR system.

(ii) By October 3, 2017, the owner/operator shall submit to EPA a summary of any process improvement or debugging activities that were performed on the SNCR system. Elements of this summary report shall include: a description of each process adjustment performed on the SNCR system, a discussion of whether the adjustment affected NOX emission rate (including CEMS data that may have been recorded while the adjustment was in progress), a description of the range (if applicable) over which the adjustment was examined, and a discussion of how the adjustment will be reflected or accounted for in kiln operating practices. In addition, to the extent that the owner/operator evaluates the impact of varying reagent injection rate on NOX emissions, the owner/operator shall include the following information: the range of reagent injection rates evaluated (expressed as a molar ratio of reagent to average NOX concentration), reagent injection rate, average NOX concentration, lime production rate, kiln flue gas temperature, and the presence of any detached plumes from the kiln exhaust.

(iii) The owner/operator shall submit a report that lists the daily rolling 30-kiln operating day emission rates for NOX and SO2, calculated in accordance with paragraphs (i)(6)(iii) and (iv) of this section.

(iv) The owner/operator shall submit a report that lists the monthly rolling 12-month emission rates for NOX and SO2, calculated in accordance with paragraphs (i)(6)(v) and (vi) of this section.

(v) The owner/operator shall submit excess emissions reports for NOX and SO2 limits. Excess emissions means emissions that exceed any of the emissions limits specified in paragraph (i)(3) of this section. The reports shall include the magnitude, date(s), and duration of each period of excess emissions; specific identification of each period of excess emissions that occurs during startups, shutdowns, and malfunctions of the kiln; the nature and cause of any malfunction (if known); and the corrective action taken or preventative measures adopted.

(vi) The owner/operator shall submit a summary of CEMS operation, to include dates and duration of each period during which the CEMS was inoperative (except for zero and span adjustments and calibration checks), reason(s) why the CEMS was inoperative and steps taken to prevent recurrence, and any CEMS repairs or adjustments.

(vii) The owner/operator shall submit results of all CEMS performance tests required by 40 CFR part 60, Appendix F, Procedure 1 (Relative Accuracy Test Audits, Relative Accuracy Audits, and Cylinder Gas Audits).

(viiii) When no excess emissions have occurred or the CEMS has not been inoperative, repaired, or adjusted during the reporting period, the owner/operator shall state such information in the semiannual report.

(9) Notifications. All notifications required under this section shall be submitted by the owner/operator to the Director, Enforcement Division (Mail Code ENF-2-1), U.S. Environmental Protection Agency, Region 9, 75 Hawthorne Street, San Francisco, California 94105-3901.

(i) The owner/operator shall submit notification of commencement of construction of any equipment which is being constructed to comply with the NOX emission limits in paragraph (i)(3) of this section.

(ii) The owner/operator shall submit semiannual progress reports on construction of any such equipment.

(iii) The owner/operator shall submit notification of initial startup of any such equipment.

(10) Equipment operations. (i) At all times, including periods of startup, shutdown, and malfunction, the owner/operator shall, to the extent practicable, maintain and operate the kilns, including associated air pollution control equipment, in a manner consistent with good air pollution control practices for minimizing emissions. Pollution control equipment shall be designed and capable of operating properly to minimize emissions during all expected operating conditions. Determination of whether acceptable operating and maintenance procedures are being used will be based on information available to the Regional Administrator, which may include, but is not limited to, monitoring results, review of operating and maintenance procedures, and inspection of the kilns.

(ii) After completion of installation of ammonia injection on a kiln, the owner/operator shall inject sufficient ammonia to achieve compliance with the NOX emission limits from paragraph (i)(3) of this section for that kiln while preventing excessive ammonia emissions.

(11) Enforcement. Notwithstanding any other provision in this implementation plan, any credible evidence or information relevant as to whether the kiln would have been in compliance with applicable requirements if the appropriate performance or compliance test had been performed can be used to establish whether or not the owner/operator has violated or is in violation of any standard or applicable emission limit in the plan.

[FR Doc. 2015-08883 Filed 4-16-15; 8:45 am]

BILLING CODE 6560-50-P